DEPARTMENT OF ENERGY

Federal Energy Regulatory Commission

[Docket No. EC04-68-000, et al.]

KeySpan-Ravenswood, LLC, et al.; Electric Rate and Corporate Filings

March 1, 2004.

The following filings have been made with the Commission. The filings are listed in ascending order within each docket classification.

1. KeySpan-Ravenswood, LLC

[Docket No. EC04-68-000]

Take notice that on February 27, 2004, KeySpan-Ravenswood, LLC (Ravenswood) submitted for filing an application for approval of a sale leaseback transaction and disclaimer of jurisdiction over the passive participants, pursuant to sections 201 and 203 of the Federal Power Act. Ravenswood states that the proposed sale leaseback transaction will not change the operation or maintenance of the facilities. Ravenswood has requested waivers of the Commission's regulations so that the filing may become effective at the earliest possible date, but no later than the date the New York Public Service Commission approves the sale leaseback transaction.

Ravenswood states that a copy of the application has been served on the New York Public Service Commission.

Comment Date: March 18, 2004.

2. Puna Geothermal Venture

[Docket No. EG04-36-000]

On February 27, 2004, Puna Geothermal Venture (PGV) filed with the Federal Energy Regulatory Commission an application for redetermination of exempt wholesale generator status pursuant to part 365 of the Commission's regulations.

PGV, a Hawaii general partnership states that it will be engaged directly and exclusively in the business of operating all or part of one or more eligible facilities located in Hawaii. PGV also states that the eligible facilities consist of an approximately 30 MW geothermal electric generation plant and related interconnection facilities. PGV further states that the output of the eligible facilities is sold at wholesale.

Comment Date: March 19, 2004.

3. Michigan Electric Transmission Company, LLC

[Docket No. ER01-2126-008]

Take notice that on February 26, 2004, Michigan Electric Transmission Company, LLC (METC) submitted an executed and revised Generator Interconnection and Operating Agreement with Renaissance Power, L.L.C. (Renaissance) intended to resolve the issue still pending in Docket No. ER01-2126. METC requests an effective date of March 1, 2004, for this filing.

METC states that copies of this filing have been served upon Renaissance.

Comment Date: March 18, 2004.

4. Cross-Sound Cable Company, LLC

[Docket No. ER03-600-002]

Take notice that on February 26, 2004, Cross-Sound Cable Company, LLC (CSC LLC) filed procedures for customers to reassign their firm transmission rights over the Cross Sound Cable (CSC). CSC LLC states that the filing is intended to achieve compliance with the Commission's February 11, 2004, order, 106 FERC ¶ 61,116, approving the reassignment procedures subject to a required compliance filing. CSC LLC requests that the Commission allow the reassignment procedures to become effective February 11, 2004.

CSC LLC states that a copy of this filing has been mailed to each person designated on the official service list compiled by the Secretary of the Commission in Docket No. ER03-600-000.

Comment Date: March 18, 2004.

5. Central Vermont Public Service Corporation

[Docket No. ER04-515-001]

Take notice that on February 25, 2004, Central Vermont Public Service Corporation (Central Vermont) tendered for filing an executed version of Substitute Original Service Agreement No. 45, a Network Integration Transmission Service Agreement and Network Operating Agreement with the Public Service Company of New Hampshire (PSNH) under Central Vermont's FERC Electric Tariff, Second Revised Volume No. 7. Central Vermont requests an effective date of January 1, 2004, the day service commenced.

Central Vermont states that copies of the filing were served upon the PSNH and the Vermont Public Service Board.

Comment Date: March 17, 2004.

6. Black River Generation, LLC

[Docket No. ER04-526-000]

Take notice that on February 26, 2004, Black River Generation, LLC (Black River Generation) submitted a Notice of Withdrawal of its February 3, 2004, application in the above-referenced proceeding.

Comment Date: March 18, 2004.

7. Hartford Steam Company

[Docket No. ER04-582-000]

Take notice that on February 25, 2004, Hartford Steam Company (Hartford Steam) submitted for filing pursuant to Schedule 205 of the Federal Power Act an Application for Acceptance of Initial Rate Schedule, which would allow Hartford Steam to engage in the sale of electric energy and capacity at market-based rates. Hartford Steam states that it owns and operates a 7.5 MW cogeneration facility located in Hartford, Connecticut. Hartford Steam seeks certain waivers, blanket approvals, and authorizations under the Commission(s regulations. Hartford Steam requests an effective date of February 25, 2004.

Comment Date: March 17, 2004.

8. MidAmerican Energy Company

[Docket No. ER04-583-000]

Take notice that on February 25, 2004, MidAmerican Energy Company (MidAmerican) tendered for filing with the Commission an Emergency Electric Interconnection and Operating Agreement between MidAmerican Energy Company and East River Electric Power Cooperative, which incorporates the First Amendment to the Agreement dated January 26, 2004. MidAmerican proposes that the Agreement become effective on the first day of the month in which the Sioux River ethanol plant becomes operational for commercial purposes.

MidAmerican states that copies of the filing were served upon the Iowa Utilities Board, the Illinois Commerce Commission and the South Dakota Public Utilities Commission.

Comment Date: March 17, 2004.

9. EnergyWindow, Inc.

[Docket No. ER04-584-000]

Take notice that on February 25, 2004, EnergyWindow, Inc. (EnergyWindow) petitioned the Commission for acceptance of EnergyWindow Rate Schedule FERC No. 1; the granting of certain blanket approvals, including the authority to sell electricity at market-based rates; and the waiver of certain Commission regulations.

EnergyWindow states that it intends to engage in wholesale electric power and energy purchases and sales as a marketer. EnergyWindow also states that it is not in the business of generating or transmitting electric power.

Comment Date: March 17, 2004.

10. PJM Interconnection, L.L.C.

[Docket No. ER04-585-000]

Take notice that on February 25, 2004, PJM Interconnection, L.L.C. (PJM), submitted for filing an executed interconnection service agreement (ISA) among PJM, Mannington Mills, Inc., and Atlantic City Electric Company d/b/a Conectiv Power Delivery. PJM requests a waiver of the Commission's 60-day notice requirement to permit a January 27, 2004, effective date for the ISA.

PJM states that copies of this filing were served upon the parties to the agreements and the State regulatory commissions within the PJM region.

Comment Date: March 17, 2004.

11. Michigan Electric Transmission Company, LLC Docket No. ER04-586-000

Take notice that on February 25, 2004, Michigan Electric Transmission Company, LLC (METC) submitted a Letter Agreement between the Wolverine Power Supply Cooperative, Inc. (Wolverine) and Michigan Electric Transmission Company, LLC intended to establish the terms and conditions for engineering and related activities to be performed by METC in connection with a proposed interconnection to the METC transmission system by Wolverine.

Comment Date: March 17, 2004.

12. Ameren Services Company

[Docket No. ER04-587-000]

Take notice that on February 26, 2004, Ameren Services Company (ASC) tendered for filing an executed Network Integration Transmission Service and Network Operating Agreement between ASC and the City of California, Missouri. ASC states that the purpose of the Agreements is to permit ASC to provide transmission service to the City of California, Missouri, pursuant to Ameren's Open Access Transmission Tariff.

Comment Date: March 18, 2004.

13. Virginia Electric and Power Company

[Docket No. ER04-588-000]

Take notice that on February 26, 2004, Virginia Electric and Power Company doing business as Dominion Virginia Power, tendered for filing a Generator Imbalance Service Schedule as Schedule 4G under its Open Access Transmission Tariff to match the differences in any given hour of the amount of energy scheduled by a generating facility and actually generated and delivered in that hour. Dominion Virginia Power respectfully requests that the Commission permit the Generator Imbalance Service Schedule to become effective on April 26, 2004.

Dominion Virginia Power states that the filings were served upon the Virginia State Corporation Commission and Dominion Virginia Power's jurisdictional customers.

Comment Date: March 18, 2004.

14. Commonwealth Edison Company

[Docket No. ER04-589-000]

Take notice that on February 26, 2004, Commonwealth Edison Company (ComEd) submitted for filing fourteen (14) unexecuted Service Agreements entered into between ComEd and Edison Mission Marketing & Trading Inc. under ComEd's Open Access Transmission Tariff. ComEd requests an effective date of April 1, 2004, for all of the Service Agreements.

ComEd states that copies of the filing were served upon Edison Mission Marketing & Trading Inc. and the Illinois Commerce Commission.

Comment Date: March 18, 2004.

15. Northeast Utilities Service Company

[Docket No. TX04-1-000]

On February 26, 2004, Northeast Utilities Service Company (NUSCO) filed an Application for an Order Directing the Physical Connection of Facilities Pursuant to sections 210 and 212 of the Federal Power Act and for Interim Procedures. NUSCO states that the Application was served on the Long Island Power Authority, the Connecticut Department of Public Utility Control, the New York Public Service Commission, the Connecticut Department of Environmental Protection, the New York Department of Environmental Conservation, the Independent System Operator of New England, and the New York Independent System Operator.

Comment Date: March 26, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-492 Filed 3-8-04; 8:45 am]

BILLING CODE 6717-01-P